DEPARTMENT OF JUSTICE

Environment and Natural Resources Division; Notice of Lodging Proposed Consent Decree

In accordance with Departmental Policy, 28 CFR § 50.7, notice is hereby given that a proposed consent decree in United States v. Hammond, No. 01 C 5559, was lodged with the United States District Court for the Northern District of Illinois on February 12, 2003. This proposed Consent Decree concerns a complaint filed by the United States against Danny Hammond, pursuant to the Clean Water Act, to obtain injunctive relief from and impose civil penalties against Hammond for violations of Sections 301(a) and 404 of the Act, 33 U.S.C. 1311(a), 1344.

The proposed Consent Decree requires Hammond to remove the fill material, restore the affected wetland, place a deed restriction on the property, and pay a civil penalty of $10,000.

The Department of Justice will accept written comments relating to this proposed Consent Decree for thirty (30) days from the date of publication of this notice. Please address comments to Jonathan C. Haile, Assistant United States Attorney, 219 S. Dearborn St., Chicago, Illinois 60604, and refer to United States v. Hammond, No. 01 C 5559.

The proposed Consent Decree may be examined at the Clerk's Office, United States District Court for the Northern District of Illinois. In addition, the proposed Consent Decree may be viewed on the World Wide Web at http://www.usdoj.gov/enrd/enrd-home.html.

Letitia J. Grishaw,
Chief, Environmental Defense Section, Environment & Natural Resources Division.

[FR Doc. 03-4542 Filed 2-25-03; 8:45 am]

BILLING CODE 4410-15-M